DEPARTMENT OF HEALTH AND HUMAN SERVICES

Centers for Disease Control and Prevention

[Program Announcement 01115]

National Comprehensive Cancer Control Program; Notice of Availability of Funds

A. Purpose

The Centers for Disease Control and Prevention (CDC) announces the availability of fiscal year (FY) 2001 funds for cooperative agreement programs for “National Comprehensive Cancer Control Program.” This program addresses the “Healthy People 2010” focus area of Cancer.

The purpose of the National Comprehensive Cancer Control Program is to support States, Tribes, and Territories in the planning and implementation of comprehensive cancer control activities. See Appendix A for background information.

This announcement consists of two parts. Part I supports comprehensive cancer control planning activities. Part II supports comprehensive cancer control implementation activities.

B. Eligible Applicants

Assistance will be provided only to the health departments of States, the District of Columbia, and Territories, or their bona fide agents or instrumentalities (including the Commonwealth of Puerto Rico, The Virgin Islands, American Samoa, Guam, the Federated States of Micronesia, the Republic of the Marshall Islands, and the Republic of Palau) and to Federally recognized Indian Tribal governments (including Indian Tribes, Tribal organizations, Alaska Natives and Urban Indian organizations, and inter-tribal consortia, hereafter referred to as Tribes).

Applicants may apply for funding under Part I or Part II but not both parts.

Only one eligible application from a State, Tribe, or Territory will be funded. Applicants from each State, Tribe, or Territory are encouraged to coordinate and combine their efforts prior to submitting the application for their State/Tribe/Territory.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $1,900,000 is available in FY 2001 to fund approximately eight to twelve awards. It is expected that the awards will begin on or about September 30, 2001.

Part I—Comprehensive Cancer Control Planning

Approximately $750,000 is available in FY 2001 to fund approximately five to seven awards. It is expected that the average award will be $125,000; ranging from $100,000 to $150,000. It is expected that the awards will be made for a 12-month budget period within a project period of up to two years. Funding estimates may change.

Part II—Comprehensive Cancer Control Implementation

Approximately $1,150,000 is available in FY 2001 to fund approximately three to five awards. It is expected that the average award will be $250,000, ranging from $200,000 to $300,000. It is expected that the awards will be made for a 12-month budget period within a project period of up to four years. Funding estimates may change. Continuation awards within an approved project period will be made on the basis of satisfactory progress as evidenced by required reports and the availability of funds.

1. Direct Assistance

You may request Federal personnel as direct assistance, in lieu of a portion of financial assistance.

2. Use of Funds

These funds should not be used to support other existing programs such as breast and cervical cancer, cancer registry, laboratory or clinical services, or tobacco control programs. Funds awarded under this program announcement may not be used to supplant existing program efforts. Funds may not be used to provide direct medical care or prevention case management.

D. Program Requirements

In conducting activities to achieve the purpose of this program, the recipient will be responsible for the activities under 1. (Recipient Activities), and CDC will be responsible for the activities listed under 2. (CDC Activities).

Part I—Comprehensive Cancer Control Planning Activities

1. Recipient Activities

a. Assess and address the State/Tribe/Territory cancer burden to determine the critical target areas for cancer prevention and control activities; assess gaps in strategies to address the cancer burden; create and prioritize measurable goals and objectives for a comprehensive cancer control plan; and identify implementing organizations for priority plan strategies.

b. Build linkages among existing State/Tribe/Territory-based surveillance systems (e.g., the statewide Central Cancer Registry), Surveillance, Epidemiology, and End Results, (SEER); vital statistics; other databases, including Behavioral Risk Factor Surveillance System (BRFSS); and other data agencies and sources to assist with assessing data/research gaps.

c. Mobilize support for comprehensive cancer control planning activities by assessing and building support among the public and private sectors.

d. Build partnerships by identifying, contacting and inviting potential key private, professional, voluntary, and nonprofit cancer control organizations, policymakers, consumers, payers, media, state and federal agencies, surveillance agencies, research and academic institutions, and others to become members of a new or existing State/Tribe/Territory-wide comprehensive cancer control coalition/partnership.

e. Enhance comprehensive cancer control infrastructure by acquiring key staff and associated resources to produce a State/Tribe/Territory-wide comprehensive cancer control plan.

f. Conduct systematic evaluation of the comprehensive cancer control planning process through identifying resources and staff for evaluation, defining planning evaluation questions, assessing the planning process, and identifying emerging challenges, solutions and outcomes of the planning process.

Part II—Comprehensive Cancer Control Implementation Activities

1. Recipient Activities

a. Implement priorities as established by the State/Tribe/Territory's comprehensive cancer control plan, which provides a framework for action to reduce the burden of cancer in the State/Tribe/Territory.

b. Update and modify strategies to assess and address the State/Tribe/Territory cancer burden, enabling continual identification of critical target areas for cancer prevention and control activities; assess gaps in existing strategies to address the cancer burden; and prioritize and identify implementing organizations for emerging priority plan strategies.

c. Enhance and build new linkages among existing State/Tribe/Territory-based surveillance systems (e.g., the statewide Central Cancer Registry), Surveillance, Epidemiology, and End Results (SEER); vital statistics, and other databases, including Behavioral Risk Factor Surveillance System (BRFSS) and other data agencies and sources to assist with assessing data/research gaps; and conduct additional data collection as feasible.

d. Mobilize support for cancer prevention and control activities by assessing, continuing, and building additional support (resources, political will, etc.) among the public and private sectors.

e. Build new and enhance existing partnerships by identifying, contacting and inviting potential key private, professional, voluntary, and nonprofit cancer control organizations, policymakers, consumers, payers, media, State and federal agencies, surveillance agencies, research and academic institutions, and others to become members of a new or existing State/Tribe/Territory-wide comprehensive cancer control coalition or partnership.

f. Enhance the organizational infrastructure by acquiring key staff and associated resources to coordinate and integrate cancer prevention and control efforts. This would include efforts to prioritize and support the implementation of cancer prevention and control activities.

g. Conduct systematic evaluation of the cancer control prioritization and implementation process. In addition to evaluating progress in meeting goals, process and impact objectives as stated in the implementation plan, programs should develop performance indicators to use as benchmarks for improvement and to determine the impact of a comprehensive approach to cancer prevention and control.

h. Identify and secure resources to support the development and dissemination of programs that will contribute to the priority areas identified within the comprehensive cancer control plan. Support organizational and stakeholder participation in national cancer prevention, early detection, and control campaigns.

2. CDC Activities

a. Assist with the exchange of information and collaboration among recipients.

b. Provide to recipients relevant, state-of-the-art, research findings and public health recommendations related to comprehensive cancer control.

c. Provide ongoing guidance, consultation, and technical assistance in conducting Recipient Activities.

d. Assist with identifying and developing national cancer prevention and control campaigns and materials that can be integrated into comprehensive cancer control programs.

E. Content

Pre-application Conference Call

Pre-application conference calls are scheduled for June 25-26, 2001, at 1:00 p.m. Eastern Standard Time on each date. The purpose of the conference calls is to communicate the logistics of the application process and to respond to any questions regarding this Program Announcement. A summary of the questions and answers will be provided to all eligible applicants.

Applications

Use the information in the Program Requirements, Other Requirements, and Evaluation Criteria sections to develop the application content. Your application will be evaluated on the criteria listed, so it is important to follow them in developing your application. Applications should not exceed 30 double-spaced pages (no smaller than 10 point type) including budget and justification. Applicants should also submit appendices (including curriculum vitae, job descriptions, organizational charts, and any other supporting documentation), which should not exceed an additional 20 pages (20 page limit excludes State/Tribe/Territory cancer plan, if applicable). All materials must be provided in an unbound, one-sided, 8½ × 11″ print format, suitable for photocopying (i.e., no audiovisual materials, posters, tapes, etc.).

Direct Assistance

To request new direct-assistance assignees, include:

1. Number of assignees requested;

2. description of the position and proposed duties;

3. ability or inability to hire locally with financial assistance;

4. justification for request;

5. organizational chart and name of intended supervisor;

6. opportunities for training, education, and work experiences for assignees; and

7. description of assignee's access to computer equipment for communication with CDC (e.g., personal computer at home, personal computer at workstation, shared computer at workstation on site, shared computer at a central office).

Applications should contain the following:

1. Executive Summary

The applicant should provide a clear, concise two-page written summary to include:

a. Need for comprehensive cancer control planning activities or implementation activities.

b. Identification of the major activities proposed to develop or implement a comprehensive cancer prevention and control plan.

c. Requested amount of federal funding.

d. Applicant's capability to conduct the comprehensive cancer control activities.

2. Background and Need

The applicant should describe:

a. The cancer disease burden for the State/Tribe/Territory, including the most recently available age-adjusted, overall cancer incidence and mortality rates by age, gender, and racial and ethnic groups. Cite the source for and time period covered by these data. Also describe the estimated State/Tribe/Territory cancer incidence and mortality rates for 2001.

b. Relevant experiences in development and implementation of cancer prevention and control programs.

c. Relevant experiences in coordination and collaboration between and among existing programs.

d. Existing initiatives, capacity, and infrastructure (e.g., coalitions/partnerships; surveillance activities and systems; evaluation activities; information, media and health communications; education and outreach strategies) within which comprehensive cancer control will occur.

e. Description of the need for comprehensive cancer control funding to enhance existing efforts.

3. Collaborative Partnerships and Community Involvement

The applicant should include:

a. A description of the proposed or existing broad-based State/Tribe/Territory-wide partnership that will advise and support the program in planning and/or implementing comprehensive cancer control activities, including a plan for identifying new/additional key members, their charge and proposed roles/responsibilities.

b. A description of evidence of a broad and diverse level of support for and commitment to comprehensive cancer control planning or implementation (e.g., legislation supporting cancer prevention and control, other sources of funding for comprehensive cancer control, dedicated comprehensive cancer control staff); letters of support (in a separate tabbed section of the application) that indicate the nature and extent of existing or planned collaborative support.

4. Management Plan

The applicant should:

a. Submit a management plan that includes a description of proposed management structure that addresses the use of qualified and diverse technical, program, administrative staff (including in-kind staff), organizational relationships (including lines of authority), internal and external communication systems, and a system for sound fiscal management. Minimal staffing should include a program coordinator. Applicant should clearly indicate who is responsible for ensuring that a comprehensive plan is developed and/or implemented.

b. Provide a description of the proposed or existing linkages within the State/Tribe/Territory health department (e.g., across risk factors, categorically funded programs, disciplines), that will support integration and coordination within the agency. The management structure description should include discussion of the integration and coordination of risk factor and cancer-related programs both within and outside of the funded organization and the integration of these programs in the planning or implementation effort. It is important that the management plan address how coordination and cooperation among existing categorical program efforts will be facilitated, while allowing each program to maintain individual integrity and identity.

c. Provide (in the appendices) a copy of the organizational chart indicating the placement of the proposed or existing program in a department or agency. The chart should clearly demonstrate internal linkages necessary for comprehensive cancer control planning or implementation and evaluation.

d. Provide a description of the proposed core planning or implementation team. The core team is traditionally made up of individuals both within and outside of the health agency that are committed to the development and implementation of the comprehensive cancer plan.

e. Provide (in the appendices) curriculum vitae and job descriptions of key staff to be partially or fully funded through this announcement, as well as any staff to be provided through in-kind support.

5. Budget With Justification

The applicant should provide a detailed budget request and complete line-item justification of all proposed operating expenses consistent with the Recipient Activities. If in-kind contributions are being provided by the applicant, these should be documented.

The annual budget should include funds for two staff members to make two, two-day trips to Atlanta for a reverse site visit.

Part I applicants should also provide the following: The applicant should provide a detailed workplan and time-line that describes how comprehensive cancer control planning activities will be conducted and will lead to the development of a comprehensive cancer control plan. A sample workplan template is included in Attachment I. Additional information regarding the workplan template is available at www.cdc.gov/cancer/nbccedp/training.

Part II applicants should also provide the following:

1. Comprehensive Cancer Control Plan

The applicant should:

a. Submit a copy of the (1) existing up-to-date State/Tribe/Territory-wide comprehensive cancer control plan, or (2) an up-to-date draft of a comprehensive cancer control plan. A comprehensive cancer control plan should include:

(1) An assessment of the cancer burden in the State/Tribe/Territory using population-based data;

(2) Short-and long-term goals and objectives to address cancer control issues based on identified needs;

(3) Proposed strategies to meet the objectives; and

(4) An assessment of existing and needed resources to implement the comprehensive cancer control plan.

b. Describe the process by which the plan was developed. If the plan is in draft format, describe the process for assuring readiness for implementation by November 1, 2001. Include a description of the participating organizations' involvement in the development of the plan. Clearly describe a mechanism to review, evaluate, and update the plan to meet changing needs.

c. Describe who will be responsible for maintaining the comprehensive cancer control plan, assuring that the partnership/coalition is involved throughout the process, and that comprehensive cancer control efforts proceed according to the State/Tribe/Territory's plan.

2. Implementation Plan

The applicant should include an implementation plan that:

a. Describes how the cancer control plan will be implemented, including the process for determining priorities to be addressed in implementing the comprehensive cancer control plan, the process for assuring that these decisions are data-or evidence-based and grounded in sound science, and the role of the coalition and/or collaborators in the priority setting process.

b. Includes specific, measurable, attainable, realistic and time-framed process and outcome objectives designed to achieve a coordinated and integrated approach to cancer prevention and control and address those priorities identified from the cancer plan. The implementation plan for this program announcement need not address each goal and objective in the comprehensive cancer control plan.

c. Provides a description of the strategies proposed to address the identified priority goals and objectives of the comprehensive cancer control plan. This should include discrete time frames, responsible agencies, organizations or organizational units, and activities proposed to meet the objectives or priorities within the comprehensive cancer control plan. It should also include a description of how the proposed activities will facilitate coordination and cooperation among existing categorical program efforts. The applicant should include goals for all four years, and specific objectives for year 01.

d. Describes how surveillance data will be integrated into program activities and used to assess program progress and inform program decision making. The description should include evidence that existing surveillance systems enable programs to: collect population-based information on the demographics, incidence, staging of cancer at diagnosis, morbidity and mortality from cancer; identify segments of the population who are at higher risk for incidence, morbidity, mortality; identify factors contributing to the disease burden; and, when appropriate, monitor the number and characteristics of people served by relevant programs.

e. Includes the current or proposed plan for evaluating

(1) the program's progress in meeting specific objectives outlined in the implementation plan, and

(2) overall success of the comprehensive cancer control effort, based on indicators established by the applicant. Baseline measures should be identified and assessed to allow for comparisons after implementation has begun. For each type of indicator that will be used, describe how data will be obtained, how information will be used to improve the overall program, who is responsible for each evaluation task, and a time-line for accomplishing each evaluation task.

f. Describes proposed information and education efforts. Identify the mechanisms through which information, material, and successful strategies will be consistently and systematically shared and disseminated throughout the State/Tribe/Territory. Include in this description a discussion of plans for collaborating with partners on national campaigns or education efforts.

g. Describe mechanisms for assuring that the core components of a comprehensive cancer control program, including primary cancer prevention/risk factor reduction, education/outreach, screening/diagnostic/treatment services, surveillance, and evaluation, are consistent with accepted science and prevailing standards of public health practice.

h. Describe existing programs funded by other sources that will be critical to the successful coordination and integration of the proposed comprehensive cancer control effort.

F. Submission and Deadline

Submit the original and two copies of PHS 5161-1 (OMB Number 0937-0189). Forms are available in the application kit and at the following Internet address: http://www.cdc.gov/od/pgo/forminfo.htm.

On or before July 20, 2001, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in 1. or 2. above are considered late applications, will not be considered, and will be returned to the applicant.

G. Evaluation Criteria

Each application will be evaluated individually against the following criteria by an independent review group appointed by CDC.

Part I Comprehensive Cancer Control Planning Activities

1. Background and Need (10 points)

The extent of need based on disease burden by age, gender and racial/ethnic groups, mortality rates, incidence, cancer program experience, existing capacity and infrastructure.

2. Collaborative Partnerships and Community Involvement (20 points)

The extent to which evidence is presented which demonstrates the breadth and appropriateness of both (a) existing linkages within and outside the State/Tribe/Territory health department to coordinate diverse cancer control activities, and (b) the current or proposed broad-based State/Tribe/Territory-wide coalition/partnership to advise and support comprehensive cancer control planning activities.

3. Management Plan (30 points)

The feasibility and clarity of the proposed management plan. The extent to which this plan addresses the use of qualified and diverse technical, program and administrative staff.

4. Workplan and Time-line (40 points)

The extent to which the workplan and time-line are feasible, appropriate, reasonable and provide a clear description of an evaluation component.

5. Budget with Justification (not scored)

The extent to which the proposed budget is adequately justified, reasonable, and consistent with this program announcement and applicant's implementation plan.

6. Human Subjects Protection (not scored)

The extent to which the application adequately address the requirements of Title 45 CFR Part 46 for the protection of human subjects.

Part II Comprehensive Cancer Control Implementation Activities

1. Background and Need (10 points)

The extent of need based on disease burden by age, gender and racial/ethnic groups, mortality rates, incidence, cancer program experience, existing capacity and infrastructure.

2. Comprehensive Cancer Control Plan (20 points)

The quality of the comprehensive cancer control plan in terms of: an integrated and coordinated State/Tribe/Territory-wide approach to prevention, early detection, treatment, rehabilitation, and palliation of cancer; an assessment of State/Tribe/Territory cancer burden; short -and long-term goals, objectives, and strategies to address cancer control issues; an assessment of existing and needed resources to develop the comprehensive cancer control program; and the full range of cancer prevention and control activities (from primary prevention to palliation). The extent to which evidence is presented that indicates a broad range of partners and stakeholders were included throughout the process to develop, implement, review and update the plan as appropriate; mechanisms to review, evaluate and update the plan to meet evolving needs, and personnel who will be responsible for maintaining the plan.

3. Collaborative Partnerships and Community Involvement (15 points)

The extent to which evidence is presented which demonstrates the breadth and appropriateness of (a) existing linkages within and outside the State/Tribe/Territory health department to coordinate diverse cancer control activities, and (b) the current or proposed broad-based State/Tribe/Territory-wide coalition/partnership to advise and support comprehensive cancer control implementation activities.

4. Implementation Plan (35 points)

The extent to which the applicant's implementation plan describes the components described under Section E. Application Content, Part II, number 2, Implementation Plan, of this Program Announcement.

5. Management Plan (20 points)

The feasibility and clarity of the proposed management plan. The extent to which this plan addresses the use of qualified and diverse technical, program and administrative staff.

6. Budget with Justification (not scored)

The extent to which the proposed budget is adequately justified, reasonable, and consistent with this program announcement and applicant's implementation plan.

7. Human Subjects Protection (not scored)

The extent to which the application adequately address the requirements of Title 45 CFR Part 46 for the protection of human subjects.

H. Other Requirements

Technical Reporting Requirements

Provide CDC with original plus two copies of:

1. Annual progress reports submitted within 90 days after the end of each budget period that includes:

a. Activities accomplished in the current fiscal year, presented in relation to what has been proposed (may submit either in narrative or workplan/chart format);

b. Progress on accomplishing comprehensive cancer control activities; and

c. Technical assistance needs of cooperative agreement recipient.

2. Financial status report, no more than 90 days after the end of the budget period; and

3. Final financial and performance reports, no more than 90 days after the end of the project period. Send all reports to the Grants Management Specialist identified in the “Where to Obtain Additional Information” section of this announcement.

The following additional requirements are applicable to this program. For a complete description of each, see Attachment II in the application kit.

AR 7 Executive Order 12372 Review

AR 8 Public Health System Reporting Requirements

AR 9 Paperwork Reduction Act Requirements

AR 10 Smoke-Free Workplace Requirements

AR 11 Healthy People 2010

AR 12 Lobbying Restrictions

I. Authority and Catalog of Federal Domestic Assistance Number

This program is authorized under section 317(k)(2) of the Public Health Service Act, [42 U.S.C. section 247b (k)(2)], as amended. The Catalog of Federal Domestic Assistance number is 93.283.

J. Where To Obtain Additional Information

This and other CDC announcements can be found on the CDC home page Internet address—http://www.cdc.gov. Click on “Funding” then “Grants and Cooperative Agreements.”

Should you have questions after reviewing the contents of all the documents, business management technical assistance may be obtained from: Jesse Robertson, Grants Management Specialist, Grants Management Branch, Procurement and Grants Office, Centers for Disease Control and Prevention, Announcement 01115, Brandywine Road, Room 3000, Atlanta, GA 30341-4146, Telephone number: (770) 488-2747, Email address: jrt4@cdc.gov.

For program technical assistance, contact: Leslie Given, MPA, Public Health Advisor, Division of Cancer Prevention and Control, National Center for Chronic Disease Prevention and Health Promotion, Centers for Disease Control and Prevention, 4770 Buford Highway, NE, Mailstop K-57, Atlanta, GA, Telephone: (770) 488-3099, Email address: llg5@cdc.gov.

Dated: June 7, 2001.
John L. Williams,
Director, Procurement and Grants Office, Centers for Disease Control and Prevention (CDC).

[FR Doc. 01-14858 Filed 6-12-01; 8:45 am]

BILLING CODE 4163-18-P